DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Santa Cruz (FEMA Docket No.: B-2220). | Unincorporated areas of Santa Cruz County (21-09-1274P). | The Honorable Manuel Ruiz, Chair, Santa Cruz County Board of Supervisors, 2150 North Congress Drive, Suite 119, Nogales, AZ 85621. | Santa Cruz County Complex, 2150 North Congress Drive, Suite 116, Nogales, AZ 85621. | Jun. 21, 2022 | 040090
Colorado: Boulder (FEMA Docket No.: B-2226). | City of Boulder (21-08-0987P). | The Honorable Aaron Brockett, Mayor, City of Boulder, 1777 Broadway, Boulder, CO 80306. | City Hall, 1777 Broadway, Boulder, CO 80306. | Jul. 1, 2022 | 080024
Florida:
Bay (FEMA Docket No.: B-2231). | City of Lynn Haven (20-04-4506P). | Vickie Gainer, Manager, City of Lynn Haven, 825 Ohio Avenue, Lynn Haven, FL 32444. | Building Department, 817 Ohio Avenue, Lynn Haven, FL 32444. | Jun. 27, 2022 | 120009
Bay (FEMA Docket No.: B-2231). | City of Panama City (20-04-4506P). | The Honorable Greg Brudnicki, Mayor, City of Panama City, 501 Harrison Avenue, Panama City, FL 32401. | Public Works Department, Engineering Division, 501 Harrison Avenue, Panama City, FL 32401. | Jun. 27, 2022 | 120012
Bay (FEMA Docket No.: B-2231). | Unincorporated areas of Bay County (20-04-4506P). | The Honorable Robert Carroll, Chair, Bay County Board of Commissioners, 840 West 11th Street, Panama City, FL 32401. | Bay County Planning and Zoning Department, 840 West 11th Street, Panama City, FL 32401. | Jun. 27, 2022 | 120004
Bay (FEMA Docket No.: B-2226). | Unincorporated areas of Bay County (21-04-2502P). | The Honorable Robert Carroll, Chair, Bay County Board of Commissioners, 840 West 11th Street, Panama City, FL 32401. | Bay County Planning Department, 840 West 11th Street, Panama City, FL 32401. | Jun. 21, 2022 | 120004
Charlotte (FEMA Docket No.: B-2220). | Unincorporated areas of Charlotte County (22-04-0620P). | The Honorable Bill Truex, Chair, Charlotte County Board of Commissioners, 18500 Murdock Circle, Suite 536, Port Charlotte, FL 33948. | Charlotte County Community Development Department, 18400 Murdock Circle, Port Charlotte, FL 33948. | Jun. 21, 2022 | 120061
Lake (FEMA Docket No.: B-2231). | City of Leesburg (21-04-3589P). | Al Minner, Manager, City of Leesburg, P.O. Box 490630, Leesburg, FL 34749. | Planning and Zoning Department, 204 North 5th Street, Leesburg, FL 34748. | Jun. 27, 2022 | 120136
Lake (FEMA Docket No.: B-2231). | Unincorporated areas of Lake County (21-04-3589P). | Jennifer Barker, Lake County Interim Manager, P.O. Box 7800, Tavares, FL 32778. | Lake County Public Works Department, 323 North Sinclair Avenue, Tavares, FL 32778. | Jun. 27, 2022 | 120421
Monroe (FEMA Docket No.: B-2226). | City of Marathon (22-04-0625P). | The Honorable John Bartus, Mayor, City of Marathon, 9805 Overseas Highway, Marathon, FL 33050. | Planning Department, 9805 Overseas Highway, Marathon, FL 33050. | Jun. 21, 2022 | 120681
Georgia:
Hall (FEMA Docket No.: B-2226). | City of Oakwood (21-04-4607P). | The Honorable Lamar Scroggs, Mayor, City of Oakwood, P.O. Box 99, Oakwood, GA 30566. | Department of Public Works, 4035 Walnut Circle, Oakwood, GA 30566. | Jun. 23, 2022 | 130334
Hall (FEMA Docket No.: B-2226). | Unincorporated areas of Hall County (21-04-4607P). | Jock Connell, Hall County Administrator, P.O. Drawer 1435, Gainesville, GA 30503. | Hall County Engineering Division, 2875 Browns Bridge Road, Gainesville, GA 30503. | Jun. 23, 2022 | 130466
Kentucky: Fayette (FEMA Docket No.: B-2226). | Lexington-Fayette Urban County Government (21-04-2906P). | The Honorable Linda Gorton, Mayor, Lexington-Fayette Urban County Government, 200 East Main Street, Lexington, KY 40507. | Engineering Department, 101 East Vine Street, 4th Floor, Lexington, KY 40507. | Jun. 29, 2022 | 210067
Massachusetts:
Plymouth (FEMA Docket No.: B-2226). | Town of Marion (21-01-1425P). | The Honorable Norman A. Hills, Chair, Town of Marion Board of Selectmen, 2 Spring Street, Marion, MA 02738. | Building Department, 2 Spring Street, Marion, MA 02738. | Jun. 17, 2022 | 255213
Plymouth (FEMA Docket No.: B-2226). | Town of Mattapoisett (21-01-1425P). | The Honorable Jordan C. Collyer, Chair, Town of Mattapoisett Board of Selectmen, 16 Main Street, Mattapoisett, MA 02739. | Building Department, 16 Main Street, Mattapoisett, MA 02739. | Jun. 17, 2022 | 255214
Montana:
Missoula (FEMA Docket No.: B-2226). | City of Missoula (21-08-0781P). | The Honorable John Engen, Mayor, City of Missoula, 435 Ryman Street, Missoula, MT 59802. | Department of Planning and Grants, 435 Ryman Street, Missoula, MT 59802. | Jun. 27, 2022 | 300049
Missoula (FEMA Docket No.: B-2226). | Unincorporated areas of Missoula County (21-08-0781P). | The Honorable Juanita Vero, Chair, Missoula County Board of Commissioners, 200 West Broadway Street, Missoula, MT 59802. | Missoula County Community and Planning Services Department, 323 West Alder Street, Missoula, MT 59802. | Jun. 27, 2022 | 300048
New Mexico:
San Juan (FEMA Docket No.: B-2231). | City of Aztec (21-06-1857P). | The Honorable Michael A. Padilla, Sr., Mayor, City of Aztec, 201 West Chaco Street, Aztec, NM 87410. | City Hall, 201 West Chaco Street, Aztec, NM 87410. | Jul. 5, 2022 | 350065
San Juan (FEMA Docket No.: B-2231). | Unincorporated areas of San Juan County (21-06-1857P). | Mike Stark, San Juan County Manager, 100 South Oliver Drive, Aztec, NM 87410. | San Juan County Fire Operations Building, 209 South Oliver Drive, Aztec, NM 87410. | Jul. 5, 2022 | 350064
North Carolina: Cumberland (FEMA Docket No.: B-2232). | City of Fayetteville (21-04-3782P). | The Honorable Mitch Colvin, Mayor, City of Fayetteville, 433 Hay Street, Fayetteville, NC 28301. | Zoning Department, 433 Hay Street, Fayetteville, NC 28301. | Jul. 27, 2022 | 370077
North Dakota:
Cass (FEMA Docket No.: B-2226). | City of Mapleton (21-08-0692P). | The Honorable Andrew Draeger, Mayor, City of Mapleton, 651 2nd Street, Mapleton, ND 58059. | Moore Engineering Inc., 1042 14th Avenue, Suite 101, West Fargo, ND 58076. | Jun. 16, 2022 | 380023
Cass (FEMA Docket No.: B-2226). | Township of Durbin (21-08-0692P). | The Honorable Keith Gohdes, Chair, Township of Durbin Board of Commissioners, 3747 160th ½ Avenue Southeast, Mapleton, ND 58079. | Township Hall, 3768 157 R Avenue, Southeast, Casselton, ND 58012. | Jun. 16, 2022 | 380325
Pennsylvania:
Montgomery (FEMA Docket No.: B-2231). | Municipality of Norristown (21-03-1308P). | Crandall O. Jones, Administrator, Municipality of Norristown, 235 East Airy Street, Norristown, PA 19401. | Municipality Hall, 235 East Airy Street, Norristown, PA 19401. | Jun. 27, 2022 | 425386
Montgomery (FEMA Docket No.: B-2231). | Township of Upper Merion (21-03-1308P). | Anthony T. Hamaday, Manager, Township of Upper Merion, 175 West Valley Forge Road, King of Prussia, PA 19406. | Township Hall, 175 West Valley Forge Road, King of Prussia, PA 19406. | Jun. 27, 2022 | 420957
Montgomery (FEMA Docket No.: B-2231). | Township of West Norriton (21-03-1308P). | Jason Bobst, Manager, Township of West Norriton, 1630 West Marshall Street, Jeffersonville, PA 19403. | Township Hall, 1630 West Marshall Street, Jeffersonville, PA 19403. | Jun. 27, 2022 | 420711
South Carolina:
Jasper (FEMA Docket No.: B-2226). | City of Hardeeville (21-04-4372P). | Michael J. Czymbor, Manager, City of Hardeeville, P.O. Box 609, Hardeeville, SC 29927. | City Hall, 205 Main Street, Hardeeville, SC 29927. | Jun. 30, 2022 | 450113
Jasper (FEMA Docket No.: B-2226). | Unincorporated areas of Jasper County (21-04-4372P). | The Honorable Barbara Clark, Chair, Jasper County Council, 358 3rd Avenue, Ridgeland, SC 29936. | Jasper County Planning and Building Services Department, 358 3rd Avenue, Ridgeland, SC 29936. | Jun. 30, 2022 | 450112
Texas:
Bell (FEMA Docket No.: B-2226). | Unincorporated areas of Bell County (21-06-2729P). | The Honorable David Blackburn, Bell County Judge, P.O. Box 768, Belton, TX 76513. | Bell County Engineering Department, 206 North Main Street, Belton, TX 76513. | Jun. 27, 2022 | 480706
Bexar (FEMA Docket No.: B-2231). | City of San Antonio (21-06-2681P). | The Honorable Ron Nirenberg, Mayor, City of San Antonio, P.O. Box 839966, San Antonio, TX 78283. | Transportation and Capitol Improvements Department, Storm Water Division, 114 West Commerce Street, 7th Floor, San Antonio, TX 78205. | Jun. 27, 2022 | 480045
Brazoria (FEMA Docket No.: B-2220). | City of Sweeny (21-06-0575P). | The Honorable Jeff Farley, Mayor, City of Sweeny, P.O. Box 248, Sweeny, TX 77480. | City Hall, 102 West Ashley Wilson Road, Sweeny, TX 77480. | Jun. 16, 2022 | 485512
Brazoria (FEMA Docket No.: B-2220). | Unincorporated areas of Brazoria County (21-06-0575P). | The Honorable L.M. “Matt” Sebesta, Jr., Brazoria County Judge, 111 East Locust Street, Angleton, TX 77515. | Brazoria County West Annex Building, 451 North Velasco Street, Suite 210, Angleton, TX 77515. | Jun. 16, 2022 | 485458
Dallas (FEMA Docket No.: B-2231). | City of Dallas (21-06-1960P). | The Honorable Eric Johnson, Mayor, City of Dallas, 1500 Marilla Street, Room 5EN, Dallas, TX 75201. | Oak Cliff Municipal Center, 320 East Jefferson Boulevard, Room 312, Dallas, TX 75203. | Jul. 5, 2022 | 480171
Montgomery (FEMA Docket No.: B-2231). | City of Conroe (21-06-1436P). | The Honorable Jody Czajkoski, Mayor, City of Conroe, 300 West Davis Street, Conroe, TX 77301. | Engineering Department, 700 Metcalf Street, Conroe, TX 77301. | Jul. 1, 2022 | 480484
Montgomery (FEMA Docket No.: B-2231). | Unincorporated areas of Montgomery County (21-06-1567P). | The Honorable Mark J. Keough, Montgomery County Judge, 501 North Thompson Street, Suite 401, Conroe, TX 77301. | Montgomery County Engineering Department, 501 North Thompson Street, Suite 103, Conroe, TX 77301. | Jun. 27, 2022 | 480483
Virginia: Buchanan (FEMA Docket No.: B-2226). | Town of Grundy (21-03-1165P). | Dennis A. Ramey, Manager, Town of Grundy, 1185 Plaza Drive, Grundy, VA 24614. | Department of Public Works, 1185 Plaza Drive, Grundy, VA 24614. | Jun. 17, 2022 | 510025

[FR Doc. 2022-15916 Filed 7-25-22; 8:45 am]

BILLING CODE 9110-12-P